FEDERAL MARITIME COMMISSION

Ocean Transportation Intermediary License Revocations

The Federal Maritime Commission hereby gives notice that the following Ocean Transportation Intermediary licenses have been revoked pursuant to section 19 of the Shipping Act of 1984 (46 U.S.C. chapter 409) and the regulations of the Commission pertaining to the licensing of Ocean Transportation Intermediaries, 46 CFR part 515, effective on the corresponding date shown below:

License Number: 2322F.

Name: DFW International Services, Inc.

Address: 3025 Roy Orr Blvd., Grand Prairie, TX 75050.

Date Revoked: August 12, 2010.

Reason: Failed to maintain a valid bond.

License Number: 3655F.

Name: Tranzip International Corp.

Address: 137 Tunicflower Lane, West Windsor, NJ 08550.

Date Revoked: August 15, 2010.

Reason: Failed to maintain a valid bond.

License Number: 003864F.

Name: Fredonia, Inc.

Address: 531 W. Roosevelt Road, Wheaton, IL 60187.

Date Revoked: August 12, 2010.

Reason: Failed to maintain a valid bond.

License Number: 4063F.

Name: VIP Transport, Inc.

Address: 2703 Wardlow Road, Corona, CA 91720.

Date Revoked: August 13, 2010.

Reason: Failed to maintain a valid bond.

License Number: 004553F.

Name: Marianas Steamship Agencies, Inc. dba MSA Logistics

Address: Commercial Port Annex, 2nd Floor, 1010 Cabras Highway, Piti, Guam 96915.

Date Revoked: August 15, 2010.

Reason: Failed to maintain a valid bond.

License Number: 012345N.

Name: Home Run Shipping International, Inc.

Address: 420 W. Merrick Road, Valley Stream, NY 11540-0459.

Date Revoked: August 9, 2010.

Reason: Failed to maintain a valid bond.

License Number: 015575F.

Name: Worldwide International, Inc.

Address: 5900 Roche Drive, Suite 315, Columbus, OH 43229.

Date Revoked: August 14, 2010.

Reason: Failed to maintain a valid bond.

License Number: 015708N.

Name: Blue Moon Express Limited.

Address: Room 1901, 19/F., CC Wu Bldg., 302-308 Hennessy Road, Wanchai, Hong Kong, Republic of China.

Date Revoked: August 7, 2010.

Reason: Failed to maintain a valid bond.

License Number: 016037N.

Name: J.C. Express of Miami, Corp.

Address: 8548 NW 72nd Street, Miami, FL 33166.

Date Revoked: August 6, 2010.

Reason: Failed to maintain a valid bond.

License Number: 016650F.

Name: McCollister's Transportation Systems, Inc.

Address: 1800 Route 130 North, Burlington, NJ 08016.

Date Revoked: August 16, 2010.

Reason: Failed to maintain a valid bond.

License Number: 017800NF.

Name: Nick's International Shipping Inc.

Address: 1841 Carter Avenue, Bronx, NY 10457.

Dates Revoked: August 8, 2010(N) and July 2, 2010 (OFF).

Reason: Failed to maintain a valid bond.

License Number: 018694N.

Name: Global Parcel System LLC.

Address: 8304 Northwest 30th Terrace, Miami, FL 33122.

Date Revoked: August 13, 2010.

Reason: Failed to maintain a valid bond.

License Number: 019006N.

Name: ATEC Systems, Ltd.

Address: 650 S. NorthLake Blvd., Suite 400, Altamonte Springs, FL 32701.

Date Revoked: August 8, 2010.

Reason: Failed to maintain a valid bond.

License Number: 019355F.

Name: Abad Air, Inc.

Address: 10411 NW 28th Street, Suite C102, Miami, FL 33172.

Date Revoked: August 6, 2010.

Reason: Failed to maintain a valid bond.

License Number: 019403NF.

Name: Vantage International Incorporated dba Trans Cargo Services dba Vantage International Inc.

Address: 2450 6th Avenue South, #208, Seattle, WA 98134.

Date Revoked: August 13, 2010.

Reason: Failed to maintain a valid bond.

License Number: 019584N.

Name: Dakota Export, LLC.

Address: 1413 7th Street, South Fargo, ND 58103.

Date Revoked: August 11, 2010.

Reason: Surrendered license voluntarily.

License Number: 020400NF.

Name: LIS Logistic-Global Inc.

Address: 1322 NW 78th Avenue, Miami, FL 33126.

Date Revoked: August 12, 2010.

Reason: Failed to maintain a valid bond.

License Number: 020815N.

Name: F.E.P.A. Enterprises, Inc. dba FEPA Logistics (USA).

Address: 1525 Lakeville Drive, Suite #215, Kingwood, TX 77339.

Date Revoked: August 7, 2010.

Reason: Failed to maintain a valid bond.

Sandra L. Kusumoto,
Director, Bureau of Certification and Licensing.

[FR Doc. 2010-21884 Filed 8-31-10; 8:45 am]

BILLING CODE 6730-01-P